DEPARTMENT OF AGRICULTURE

Agricultural Marketing Service

7 CFR Part 28

[CN-00-003]

RIN 0581-AB82

Grade Standards and Classification for American Pima Cotton

Correction

In proposed rule document 00-8298 beginning on page 17609 in the issue of Tuesday, April 4, 2000, make the following correction:

§§28.511-28.517 [Corrected]

On page 17611, in the first and second columns, after amendatory instruction 5., the table of contents for §§28.511-28.517 is corrected to read as follows:

Official Cotton Standards of the United States for the Leaf Grade of American Pima Cotton

28.511 Leaf Grade No. 1.

28.512 Leaf Grade No. 2.

28.513 Leaf Grade No. 3.

28.514 Leaf Grade No. 4.

28.515 Leaf Grade No. 5.

28.516 Leaf Grade No. 6.

28.517 Leaf Grade No. 7.

[FR Doc. C0-8298 Filed 4-17-00; 8:45 am]

BILLING CODE 1505-01-D

DEPARTMENT OF TRANSPORTATION

Federal Aviation Administration

14 CFR Part 71

[Airspace Docket No. 2000-ASW-10]

Revision of Class D Airspace, Alexandria England AFB, LA; Revocation of Class D Airspace, Alexandria Esler Regional Airport, LA; and Revision of Class E Airspace, Alexandria, LA

Correction

In final rule document 00-7347 beginning on page 15860 in the issue of Friday, March 24, 2000, make the following correction:

§71.1 [Corrected]

On page 15861, in the first column, in the second line under the heading ASW LA D Alexandria, LA [Revised], “Lat. 31°19′55″ N.” should read, “ Lat. 31°19′39″ N.”.

[FR Doc. C0-7347 Filed 4-17-00; 8:45 am]

BILLING CODE 1505-01-D